DEPARTMENT OF DEFENSE

Office of the Secretary

[Docket ID DoD-2014-HA-0086]

Proposed Collection; Comment Request

AGENCY: Office of the Assistant Secretary of Defense for Health Affairs, DoD.

ACTION: Notice.

SUMMARY: In compliance with Section 3506(c)(2)(A) of the Paperwork Reduction Act of 1995, the Office of the Assistant Secretary of Defense for Health Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by August 4, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Health Agency (DHA), ATTN: Clinical Support Division, Healthcare Operations Directorate, 7700 Arlington Boulevard, Falls Church, VA 22042-5101, or call (703) 681-0064.

SUPPLEMENTARY INFORMATION:

Title; Associated Form; and OMB Number: DoD Patient Safety Survey; OMB Control Number 0720-0034.

Needs and Uses: The 2001 National Defense Authorization Act contains specific sections addressing patient safety in military and veterans health care systems. This legislation states that the Secretary of Defense shall establish a patient care error reporting and management system to study occurrences of errors in patient care and that one purpose of the system should be to “identify systemic factors that are associated with such occurrences” and “to provide for action to be taken to correct the identified systemic factors” (Sec. 754, items b2 and b3). In addition, the legislation states that the Secretary shall “continue research and development investments to improve communication, coordination, and team work in the provision of health care” (Sec. 754, item d4).

In its ongoing response to this legislation and in support of its mission to “promote a culture of safety to eliminate preventable patient harm by engaging, educating and equipping patient-care teams to institutionalize evidence-based safe practices,” the DoD Patient Safety Program plans to field the Tri-service Patient Safety Culture Survey. The Culture Survey is based on the Department of Health and Human Services' Agency for Healthcare Research and Quality's validated survey instrument. Previously administered in 2005/6 and 2008, the survey obtains MHS staff opinions on patient safety issues such as teamwork, communications, medical error occurrence and response, error reporting, and overall perceptions of patient safety. The purpose of the survey is to assess the current status of patient safety in MHS facilities and to assess patient safety improvement over time. Two versions of the survey will be available for administration. The inpatient survey tool is the same, OMB-approved tool that was administered in previous years. There will also be a corresponding outpatient survey tool, with congruous questions tailored to the ambulatory or clinic setting. Respondents will select the survey corresponding to their care survey.

Affected Public: Federal Government; Individuals or Households.

Annual Burden Hours: 2,337 hours.

Number of Respondents: 14,022.

Responses per Respondent: 1.

Total Annual Responses: 14,022.

Average Burden per Response: 10 minutes.

Frequency: On Occasion.

The Web-based survey will be administered on a voluntary-basis to all staff working in Army, Navy, and Air Force Military Health System (MHS) direct care facilities in the U.S. and internationally, including Military Treatment Facilities (MTF) hospitals as well as ambulatory and dental services. Responses and respondents will remain anonymous. There are two versions of the survey that may be administered, corresponding to the setting in which care is delivered, either Hospital (inpatient) or Ambulatory (outpatient/clinic setting).

Dated: May 30, 2014.
Aaron Siegel,
Alternate OSD Federal Register Liaison Officer, Department of Defense.

[FR Doc. 2014-12961 Filed 6-3-14; 8:45 am]

BILLING CODE 5001-06-P